DEPARTMENT OF HEALTH AND HUMAN SERVICES

National Institutes of Health

Center for Scientific Review; Amended Notice of Meeting

Notice is hereby given of a change in the meeting of the Molecular and Integrative Signal Transduction Study Section, June 3, 2008, 8 a.m. to June 4, 2008, 5 p.m., One Washington Circle Hotel, One Washington Circle, Washington, DC 20037 which was published in the Federal Register on April 4, 2008, 73 FR 18539-18542.

The meeting will be held one day only June 3, 2008. The meeting time and location remain the same. The meeting is closed to the public.

Dated: May 2, 2008.
Jennifer Spaeth,
Director, Office of Federal Advisory Committee Policy.

[FR Doc. E8-10321 Filed 5-8-08; 8:45 am]

BILLING CODE 4140-01-M